DEPARTMENT OF ENERGY

Federal Energy Regulatory Commission

[Project No. 5991-003]

Gordon Foster and Seneca Falls School, Deep Creek Energy LLC; Notice of Transfer of Exemption

1. By letter filed March 20, 2013, Mr. Brian Gogarty, Deep Creek Energy LLC informed the Commission that the exemption from licensing for the Deep Creek Project, FERC No. 5991, originally issued October 1, 1982,¹ has been transferred to Deep Creek Energy LLC. The project is located on Deep Creek in Stevens County, Washington. The transfer of an exemption does not require Commission approval.

¹ 21 FERC ¶ 62,002, Order Granting Exemption From Licensing of a Small Hydroelectric Project of 5 MW or Less.

2. Mr. Brian Gogarty, Deep Creek Energy LLC, located at 806 B Gillette Road, Colville, WA 99114 is now the exemptee of the Deep Creek Project, FERC No. 5991.

Dated: May 6, 2013.
Kimberly D. Bose,
Secretary.

[FR Doc. 2013-11281 Filed 5-10-13; 8:45 am]

BILLING CODE 6717-01-P